DEPARTMENT OF TRANSPORTATION

Coast Guard

33 CFR Part 165

[COTP TAMPA-02-053]

RIN 2115-AA97

Security Zones; Tampa Bay and Crystal River, FL

AGENCY: Coast Guard, DOT.

ACTION: Temporary final rule.

SUMMARY: The Coast Guard is establishing temporary security zones in Tampa Bay, Tampa, Florida, and Crystal River, Florida. These zones, which are based on temporary security zones for vessels, waterfront facilities and bridges that will soon expire, are needed to ensure public safety and security in the Tampa Bay area. Entry into these zones will be prohibited unless authorized by the Captain of the Port, or his designated representative.

DATES: This rule is effective from 6:01 p.m. on June 15, 2002 until 11:59 p.m. October 31, 2002.

ADDRESSES: Comments and material received from the public, as well as documents indicated in this preamble as being available in the docket, are part of [COTP Tampa 02-053] and are available for inspection or copying at Marine Safety Office Tampa, 155 Columbia Drive, Tampa, Florida 33606-3598 between 8 a.m. and 3 p.m. Monday through Friday, except Federal holidays.

FOR FURTHER INFORMATION CONTACT: LCDR David McClellan, Coast Guard Marine Safety Office Tampa, at (813) 228-2189 extension 102.

SUPPLEMENTARY INFORMATION:

Regulatory Information

We did not publish a notice of proposed rulemaking (NPRM) for this regulation. Under 5 U.S.C. 553(b)(B), the Coast Guard finds that good cause exists for not publishing a NPRM. Publishing a NPRM, which would incorporate a comment period before a final rule could be issued, and delaying the rule's effective date would be contrary to the public interest since immediate action is needed to protect the public, ports and waterways of the United States.

For the same reasons, under 5 U.S.C. 553(d)(3), the Coast Guard finds that good cause exists for making this rule effective less than 30 days after publication in the Federal Register. The Coast Guard will issue a broadcast notice to mariners to advise mariners of the restriction. The Coast Guard will publish a NPRM proposing to make these temporary security zones permanent and requesting public comment.

Background and Purpose

The terrorist attacks of September 2001 killed thousands of people and heightened the need for development of various security measures throughout the seaports of the United States, particularly those vessels and facilities which are frequented by foreign nationals and maintain an interest to national security. Following these attacks by well-trained and clandestine terrorists, national security and intelligence officials have warned that future terrorists attacks are likely. The Captain of the Port of Tampa has determined that these security zones are necessary to protect the public, ports, and waterways of the United States from potential subversive acts.

These zones are based on temporary security zones for vessels, waterfront facilities and bridges that will soon expire. The following five, existing temporary final rules were published in the Federal Register:

Security Zone for Crystal River, FL (66 FR 62940, December 4, 2001). This rule created a temporary fixed security zone around the Florida Power Crystal River nuclear power plant located at the end of the Florida Power Corporation Channel, Crystal River, Florida.

Security Zone Sunshine Skyway Bridge, Tampa, FL (66 FR 65838, December 21, 2001). This rule created temporary fixed security zones 100 feet around all bridge supports and rocky outcroppings at the base of the supports for the Sunshine Skyway Bridge in Tampa Bay.

Security Zone Tampa, FL (67 FR 8186, February 22, 2002). This rule created temporary security zones 100 yards around moored vessels carrying or transferring Liquefied Petroleum Gas (LPG), Anhydrous Ammonia (NH3) and/or grade “A” and “B” flammable liquid cargo. Additionally, any vessel transiting within 200 yards of moored vessels carrying or transferring Liquefied Petroleum Gas (LPG), Anhydrous Ammonia (NH3) and/or grade “A” and “B” cargo must proceed through the area at the minimum speed necessary to maintain safe navigation.

Security Zone Cruise Ships Tampa, FL (67 FR 10618, March 8, 2002). This rule created temporary security zones 100 yards around cruise ships moored in the Port of Tampa. Additionally, any vessel transiting within 200 yards of a moored cruise ship must proceed through the area at the minimum speed necessary to maintain safe navigation.

Security Zone St. Petersburg Harbor, FL (67 FR 36098, May 23, 2002). This rule established temporary fixed security zones around all Coast Guard and waterfront facilities and moorings in St. Petersburg Harbor, FL.

On December 4, 2001, the Captain of the Port issued a temporary rule titled “Security Zone Moving Cruise Ships, Tampa, FL” that has not yet been published in Federal Register. On April 16, 2002, the Captain of the Port issued a temporary rule titled “Security Zone facilities, Tampa, FL” that has not yet been published in Federal Register. [This April 2002 rule was subsequently published on June 14, 2002 (67 FR 40861).

This temporary final rule published today combines many security zones in the Tampa Bay area into one rule. These zones will be located in the following areas:

(1) Fifty-yard security zones around all piers and waterfront facilities in Port Sutton, East Bay, Hooker's Point, Sparkman Channel, Ybor Channel and portions of Garrison Channel;

(2) Two hundred-yard minimal speed zone and a one hundred-yard security zone around moored vessels carrying or transferring Liquefied Petroleum Gas (LPG), Anhydrous Ammonia (NH3) and/or grade “A” and “B” flammable liquid cargo, and moored cruise ships;

(3) One hundred-yard security zones around all cruise ships east of the Tampa Bay “T” sea buoy entering or departing Tampa Bay. Additionally, any vessel transiting within 200 yards of a moving cruise ship must proceed through the area at the minimum speed necessary to maintain safe navigation,

(4) One hundred-feet security zones around Coast Guard waterfront facilities and moorings in Saint Petersburg (Bayboro) Harbor;

(5) All waters of the Florida Power Corporation Channel and Demory Gap Channel around the Florida Power Crystal River nuclear power plant; and

(6) One hundred-feet security zones around all bridge supports and rocky outcroppings at the base of the supports for the Sunshine Skyway Bridge to October 31, 2002, to ensure public safety and security in the Tampa Bay area.

The Coast Guard will, during the effective period of this temporary final rule, complete notice and comment rulemaking for permanent regulations.

Regulatory Evaluation

This rule is not a significant regulatory action under section 3(f) of Executive Order 12866, Regulatory Planning and Review, and does not require an assessment of potential costs and benefits under section 6(a)(3) of that Order. The Office of Management and Budget has not reviewed it under that Order. It is not significant under the regulatory policies and procedures of the Department of Transportation (DOT) (44 FR 11040; February 26, 1979).

We expect the economic impact of this rule to be minimal and that a full Regulatory Evaluation under paragraph 10e of the regulation policies and procedures of DOT is unnecessary. This temporary rule may have some impact on the public, but these potential impacts will be minimized for the following reasons: there is ample room for vessels to navigate around security zones, and there are several locations for recreational and commercial fishing vessels to fish throughout the Tampa Bay Region, and the Captain of the Port may, on a case-by-case basis allow persons or vessels to enter a security zone.

Small Entities

Under the Regulatory Flexibility Act (5 U.S.C. 601-612), the Coast Guard considered whether this rule would have a significant economic effect upon a substantial number of small entities. “Small entities” include small businesses, not-for-profit organizations that are independently owned and operated and are not dominant in their fields, and governmental jurisdictions with populations of less than 50,000.

The Coast Guard certifies under 5 U.S.C. 605(b) that this rule will not have a significant economic impact on a substantial number of small entities because the majority of the zones are limited in size, leaving ample room for vessels to navigate around the zones. The zones will not significantly impact commuter and passenger vessel traffic patterns, and mariners will be notified of the zones via local notice to mariners and marine broadcasts. Also, the Captain of the Port may allow entrance into a zone on a case-by-case basis.

Assistance for Small Entities

Under section 213(a) of the Small Business Regulatory Enforcement Fairness Act of 1996 (Public Law 104-121), we offer to assist small entities in understanding this rule so that they can better evaluate its effects on them and participate in the rulemaking. If the rule will affect your small business, organization, or government jurisdiction and you have questions concerning its provisions or options for compliance, please contact the person listed under FOR FURTHER INFORMATION CONTACT for assistance in understanding this rule.

Small businesses may send comments on the actions of Federal employees who enforce, or otherwise determine compliance with Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247).

Collection of Information

This rule modifies existing collection of information under the Paperwork Reduction Act (44 U.S.C. 3501-3520).

Federalism

A rule has implications for federalism under Executive Order 13132, Federalism, if it has a substantial direct effect on State or local governments and would either preempt State law or impose a substantial direct cost of compliance on them. We have analyzed this rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Although this rule will not result in such expenditure, we do discuss the effects of this rule elsewhere in this preamble.

Taking of Private Property

This rule would not effect a taking of private property or otherwise have taking Implications under Executive Order 12630, Governmental Actions and Interference with Constitutionally Protected Property Rights.

Civil Justice Reform

This rule meets applicable standards in sections 3(a) and 3(b) (2) of Executive Order 12988, Civil Justice Reform, to minimize litigation, eliminate ambiguity, and reduce burden.

Environmental

The Coast Guard considered the environmental impact of this rule and concluded under Figure 2-1, paragraph 34(g) of Commandant Instruction M16475.1D, this rule is categorically excluded from further environmental documentation. A “Categorical Exclusion Determination” is available in the docket for inspection or copying where indicated under ADDRESSES.

Protection of Children

We have analyzed this rule under Executive Order 13045, Protection of Children from Environmental Health Risks and Safety Risks. This rule is not an economically significant rule and does not create an environmental risk to health or risk to safety that may disproportionately affect children.

Indian Tribal Governments

This rule does not have tribal implications under Executive Order 13175, Consultation and Coordination with Indian Tribal Governments, because it does not have a substantial direct effect on one or more Indian tribes, on the relationships between the Federal Government and Indian tribes, or on the distribution of power and responsibilities between the Federal Government and Indian tribes. We invite your comments on how this rule might impact tribal governments, even if that impact may not constitute a “tribal implication” under the Order.

Energy Effects

We have analyzed this rule under Executive Order 13211, Actions Concerning Regulations That Significantly Affect Energy Supply, Distribution, or use. We have determined that it is not a “significant energy action” under Executive Order 12866 and is not likely to have a significant adverse effect on the supply, distribution, or use of energy. It has not been designated by the Administrator of the Office of Information and regulatory Affairs as a significant energy action. Therefore, it does not require a statement of Energy Effects under Executive Order 13211.

List of Subjects in 33 CFR Part 165

Harbors, Marine safety, Navigation (water), Reports and recordkeeping requirements, Security measures, Waterways.

For the reasons discussed in the preamble, the Coast Guard amends 33 CFR part 165, as follows:

PART 165—REGULATED NAVIGATION AREAS AND LIMITED ACCESS AREAS

1. The authority citation for part 165 continues to read as follows:

Authority: 33 U.S.C. 1231; 50 U.S.C. 191, 33 CFR 1.05-1(g), 6.04-1, 6.04-6 and 160.5; 49 CFR 1.46.

2. A new temporary § 165.T07-053 is added to read as follows:

§ 165.T07-053 Security Zones: Tampa Bay, Tampa, Florida, Crystal River, Florida.

(a) The following areas are security zones:

(1) Florida Power Crystal River Power Plant—The security zone for the Florida Power Corporation Channel encompasses the waters within the following points: 28°56.87′N, 082°45.17′W (Northwest corner), 28°57.37′N, 082°41.92′W (Northeast corner), 28°56.81′N, 082°45.17′W (Southwest corner), and 28°57.32′N, 082°41.92′N (Southeast corner). The security zone for the Demory Gap Channel encompasses the waters within the following points: 28°57.61′N, 082°43.42′W (Northwest corner), 28°57.53′N, 082°41.88′W (Northeast corner), 28°57.60′N, 082°43.42′W (Southwest corner), 28°57.51′N, 082°41.88′W (Southeast corner).

(2) Port of Tampa, Hazardous Cargo Vessels—Temporary security zones are established 100 yards around moored vessels carrying or transferring Liquefied Petroleum Gas (LPG), Anhydrous Ammonia (NH3) and/or grade “A” and “B” flammable liquid cargoes in the Port of Tampa, Florida. Additionally a 200-yard minimal speed zone is created around these vessels.

(3) Port of Tampa, Cruise Ships—Temporary security zones are established 100 yards around moored cruise ships in Tampa, Florida. Additionally a 200-yard minimal speed zone is created around these cruise ships.

(4) Moving Cruise Ships, Tampa Bay—One hundred-yard security zones around all cruise ships east of the Tampa Bay “T” sea buoy entering or departing Tampa Bay. Additionally, any vessel transiting within 200 yards of a moving cruise ship must proceed through the area at the minimum speed necessary to maintain safe navigation.

(5) St. Petersburg Harbor Seawall and Moorings—The Coast Guard is establishing temporary fixed security zones in all waters north of the marked channel in St. Petersburg Harbor, St. Petersburg, Florida. These security zones will encompass all waters on the north side of channel serving St. Petersburg Harbor, commencing at dayboard “10” in approximate position 27°45.58′N, 082°37.52′W, and westward along the seawall 100 feet from the seawall and around all moorings and vessels to the end of the storage facility in approximate position 27°45.68′N, 082°37.80′W.

(6) St. Petersburg Harbor South Moorings—A security zone is established for the Coast Guard south moorings in St. Petersburg Harbor. The zone will extend 100 feet around the piers commencing from approximate position 27°45.52′N, 082°37.96′W to 27°45.52′N, 082°37.60′W. All positions noted are fixed using the North American Datum of 1983 (World Geodetic System 1984). The southern boundary of the zone is shoreward of a line between Green Daybeacon 11(LLN 2500) westerly to the entrance to Salt Creek.

(7) Pendola Point to East Bay—Temporary security zones are established 50 yards from shoreline or seawall and encompassing all piers around facilities commencing at: 27°54.16′N 082°26.11′W, east northeast to 27°54.19′N 082°26.00′W, then northeast to 27°54.37′N 082°25.72′W closing off all of Port Sutton Channel to commercial and recreational fisherman, then northerly to 27°54.48′N 082°25.72′W, then northeasterly and terminating at point 27°55.27′N 082°25.17′W.

(8) Eastern Side of Hookers Point—Temporary security zones are established 50 yards from shoreline or seawall and encompassing all piers around facilities commencing at: 27°56.05′N 082°25.95′W southwesterly to 27°56.00′N 082°26.08′W then southerly 27°55.83′N 082°26.07′W then southeasterly to 27°55.66′N 082°25.73′W the south to 27°54.75′N 082°25.74′W then southwesterly and terminating at point 27°54.57′N 082°25.86′W.

(9) Southwestern Hookers Point to Ybor Channel—Temporary security zones are established 50 yards from shoreline or seawall and encompassing all piers around facilities commencing at: 27°54.74′N 082°26.47′W, northwest to 27°55.25′N 082°26.73′W, then north-northwest to 27°55.60′N 082°26.80′W, then north-northeast to 27°56.00′N 082°26.74′W, then northeast 27°56.56′N 082°26.55′W, and north to 27°56.84′N 082°26.55′W, west to 27°56.84′N 082°26.66′W, then southerly to 27°56.65′N 082°26.66′W, southwesterly to 27°56.7′N 082°26.7′W then southwesterly and terminating at 27°56.53′N 082°26.96′W.

(10) Sunshine Skyway Bridge—The Coast Guard is establishing temporary fixed security zones in all waters extending 100 feet around all bridge supports and rocky outcroppings at the base of the supports for the Sunshine Skyway Bridge in Tampa Bay, located at approximate position 27°37′12″ N Latitude, 82°39′20″ W Longitude.

b. Regulations. In accordance with the general regulations in § 165.33 of this part, entry into these zones is prohibited except as authorized by the Captain of the Port, or his designated representative. The Captain of the Port will notify the public of these restrictions via Marine Safety Broadcast on VHF-FM Channel 16 and 13 (157.1 MHz).

c. Authority. In addition to 33 U.S.C. 1231 and 50 U.S.C. 191, the authority for this section includes 33 U.S.C. 1226.

d. Dates. This section is effective from 6:01 p.m. on June 15, 2002 until 11:59 p.m. October 31, 2002.

Dated: June 7, 2002.
A.L. Thompson, Jr.,
Captain, U.S. Coast Guard, Captain of the Port, Tampa, Florida.

[FR Doc. 02-15792 Filed 6-21-02; 8:45 am]

BILLING CODE 4910-15-P